SOCIAL SECURITY ADMINISTRATION

20 CFR Part 422

[Docket No. SSA-2014-0042]

RIN 0960-AH68

Social Security Number Card Applications

AGENCY: Social Security Administration.

ACTION: Notice of proposed rulemaking.

SUMMARY: We propose to revise our regulations to allow applicants for a Social Security number (SSN) card to apply by completing a prescribed application and submitting the required evidence, rather than completing a paper Form SS-5, Application for a Social Security Card. We also propose to remove the word “documentary” from our description of certain evidence requirements. These changes would provide flexibility in the ways in which the public may request SSN cards and allow us, in the future, to implement an online SSN replacement card application system, which we are currently developing. In addition, we propose to replace “Immigration and Naturalization Service” with “Department of Homeland Security” to reflect that agency's reorganization.

DATES: To ensure that your comments are considered, we must receive them no later than April 27, 2015.

ADDRESSES: You may submit comments by any one of three methods—Internet, fax, or mail. Do not submit the same comments multiple times or by more than one method. Regardless of which method you choose, please state that your comments refer to Docket No. SSA-2014-0042 so that we may associate your comments with the correct regulation.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the “Search” function to find docket number SSA-2014-0042. The system will issue a tracking number to confirm your submission. You will not be able to view your comment immediately because we must post each comment manually. It may take up to a week for your comment to be viewable.

2. Fax: Fax comments to (410) 966-2830.

3. Mail: Mail your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Arthur LaVeck, Office of Retirement and Disability Policy, Office of Income Security Programs, Social Security Administration, 6401 Security Boulevard, Baltimore, MD 21235-6401, (410) 966-5665. For information on eligibility or filing for benefits, call our national toll-free number, 1-800-772-1213 or TTY 1-800-325-0778, or visit our Internet site, Social Security Online, at http://www.socialsecurity.gov.

SUPPLEMENTARY INFORMATION:

The use of the SSN is widespread in today's society. It is necessary for employment, to properly record a person's wages and the taxes paid on those wages, to collect Social Security benefits, and to receive many other government services. Commercial organizations, such as banks and credit companies, also ask individuals for their SSNs for many business transactions. As a result of this widespread use, the issuance of original and replacement SSN cards is one of our most requested services.

Currently, a person can apply for an SSN by completing Form SS-5 and submitting it, in person or via mail, to his or her local field office (FO) or a Social Security Card Center (SSCC), or by having one of our representatives file an application electronically through the Social Security Number Application Process (SSNAP) during an in-office interview. The applicant must also present, or mail in, supporting documentary evidence.

In fiscal year 2013, we processed over 10 million replacement SSN card applications at FOs and SSCCs. It takes a field office employee an average of 14 minutes to process a replacement card application. Removing the requirements that applicants complete and submit paper Form SS-5 along with paper documentary evidence would allow us to develop convenient and efficient means to electronically process replacement SSN card applications and obtain acceptable supporting evidence, while retaining the security necessary to protect the integrity of the SSN and the card issuance process. Recent advances in technology provide us with additional, convenient options for the public to request government services. By pursuing the electronic approaches available to us, we expect to provide expanded service options that meet the varied needs of the public in a cost-efficient and environmentally responsible way.

For example, we are currently developing a new online application that would allow certain members of the public to apply for replacement SSN cards electronically without having to visit one of our offices or mail in the application and supporting evidence. Adult U.S. citizens who are not reporting any changes to their record (for example, name or date of birth) would have the option to file for an SSN replacement card online after registering through the my Social Security portal. Eligible individuals would also be required to have a U.S. mailing address, (including Air/Army Post Office, Fleet Post Office, or Diplomatic Post Office mailing address) and a valid U.S. state-issued driver's license or U.S. state-issued identity card. During the application process, we would securely collect and verify required information electronically (for example, identifying information, mailing address associated with the individual requesting the card), and analyze each request for potential fraud. Moving this service online would allow customers to complete a request at any time, without the need to visit us in person. It would also help the public by allowing our employees to focus on other vital services, such as taking claims for benefits and conducting program integrity work.

To ensure our SSN regulations support the development of convenient and efficient electronic service delivery options, we propose to update 20 CFR 422.103 and 422.110 to remove the requirement that an individual who seeks a replacement SSN card must file an application at any Social Security office. We also propose to remove references to Form SS-5 because our current process allows us to file an application electronically through SSNAP without the completion of a paper Form SS-5, and our planned online application will not require the completion of a paper Form SS-5. We would replace, in instances where a description is necessary, mention of Form SS-5 with the term “prescribed application.” A prescribed application would simply be the application form—whether a paper form, an online application, or some other method—that we determine to be most efficient and user-friendly at any given time. Information about application procedures would be easily available to applicants on our Internet site and at our offices nationwide.

We also propose to revise 20 CFR 422.107 to remove the word “documentary” from our description of evidence required to obtain an original or replacement SSN card. We would still require evidence to establish eligibility and identity in order to obtain a new or replacement card. However, we would revise our rules so that applicants may provide or we may obtain other types of evidence to satisfy the requirement, such as through data matches or other agreements with government agencies or other entities that we determine can provide us with appropriate and secure verification of the applicant's true identity and other eligibility factors.

These changes would provide us with the flexibility we need to adapt our SSN application process as necessity and technology allow. They would allow us to offer the public new, convenient service alternatives for obtaining SSN replacement cards, while maintaining the security and integrity of the SSN card and issuance process. We also expect these changes would reduce the public's need to visit our FOs, resulting in shorter wait times for individuals who choose to visit a FO for service.

We also propose to update section 422.107(e)(1) to replace references to “Immigration and Naturalization Service” with “Department of Homeland Security” to reflect that agency's restructuring in 2003.

Regulatory Procedures

Executive Order 12866, as Supplemented by Executive Order 13563

We consulted with the Office of Management and Budget (OMB) and determined that this proposed rule meets the criteria for a significant regulatory action under Executive Order 12866, as supplemented by Executive Order 13563, and was reviewed by OMB.

Regulatory Flexibility Act

We certify that this proposed rule would not have a significant economic impact on a substantial number of small entities because it would affect individuals only. Therefore, a regulatory flexibility analysis is not required under the Regulatory Flexibility Act, as amended.

Paperwork Reduction Act

Although the regulatory changes described below are not subject to OMB clearance under the Paperwork Reduction Act (PRA), the new electronic SSN replacement card application will require OMB PRA approval. We will seek public comment in a separate PRA Federal Register Notice (FRN) for the new electronic process under OMB No. 0960-0066. We will complete the PRA OMB clearance process, including publication of the two standard FRNs, before we implement the electronic SSN replacement card application. The public will have an opportunity to review and comment on the electronic SSN replacement card application at that time.

(Catalog of Federal Domestic Assistance Program Nos. 96.001, Social Security—Disability Insurance; 96.002, Social Security—Retirement Insurance; 96.004, Social Security Survivors Insurance; 96.006, Supplemental Security Income; 96.020, Special Benefits for Certain World War II Veterans.)

List of Subjects in 20 CFR Part 422

Administrative practice and procedure, Organization and functions (Government agencies), Reporting and recordkeeping requirements, Social security.

Carolyn W. Colvin,
Acting Commissioner of Social Security.

For the reasons set out in the preamble, we propose to amend 20 CFR chapter III part 422 subpart B as set forth below:

PART 422—ORGANIZATION AND PROCEDURES

Subpart B—General Procedures

1. The authority citation for subpart B of part 422 continues to read as follows:

Authority: Secs. 205, 232, 702(a)(5), 1131, and 1143 of the Social Security Act (42 U.S.C. 405, 432, 902(a)(5), 1320b-1, and 1320b-13), and sec. 7213(a)(1)(A) of Pub. L. 108-458.

2. Amend § 422.103 by revising paragraphs (b), (c)(1), and (e)(1) to read as follows:

§ 422.103 Social security numbers.

* * * * *

(b) Applying for a number—(1) Application. An individual needing a Social Security number may apply for one by completing a prescribed application and submitting the required evidence. An individual outside the United States (U.S.) may apply for a Social Security number card at the Department of Veterans Affairs Regional Office, Manila, Philippines, at any U.S. Foreign Service post, or at a U.S. military post outside the United States. (See § 422.106 for special procedures for filing applications with other government agencies.) Additionally, a U.S. resident may apply for a Social Security number for a nonresident dependent when the number is necessary for U.S. tax purposes or some other valid reason, the evidence requirements of § 422.107 are met, and we determine that a personal interview with the dependent is not required.

(2) Birth registration document. We may enter into an agreement with officials of a State, including, for this purpose, the District of Columbia, Puerto Rico, Guam, the U.S. Virgin Islands, and New York City, to establish, as part of the official birth registration process, a procedure to assist us in assigning Social Security numbers to newborn children. Where an agreement is in effect, a parent, as part of the official birth registration process, need not complete a prescribed application and may request that we assign a Social Security number to the newborn child.

(3) Immigration form. We may enter into an agreement with the Department of State (DOS) and the Department of Homeland Security (DHS) to assist us by collecting enumeration data as part of the immigration process. Where an agreement is in effect, an alien need not complete a prescribed application and may request, through DOS or DHS, as part of the immigration process, that we assign a Social Security number and issue a Social Security number card to him or her. An alien will request the assignment of a Social Security number through this process in the manner provided by DOS and DHS.

(c) How numbers are assigned—(1) Application. If you complete a prescribed application, we will require you to furnish evidence, as necessary, to assist us in establishing your age, U.S. citizenship or alien status, true identity, and previously assigned Social Security number(s), if any. (See § 422.107 for evidence requirements.) We may require you to undergo a personal interview before we assign a Social Security number. If you request evidence to show that you have filed a prescribed application for a Social Security number card, we may furnish you with a receipt or equivalent document. We will electronically screen the data from the prescribed application against our files. If we find that you have not been assigned a Social Security number previously, we will assign one to you and issue a Social Security number card. However, if we find that you have been assigned a Social Security number previously, we will issue a replacement Social Security number card.

* * * * *

(e) Replacement of Social Security number card—(1) When we may issue you a replacement card. We may issue you a replacement Social Security number card, subject to the limitations in paragraph (e)(2) of this section. You must complete a prescribed application to receive a replacement Social Security number card. We follow the evidence requirements in § 422.107 when we issue you a replacement Social Security number card.

* * * * *

3. Amend § 422.107 by:

a. Revising paragraphs (a) and (c);

b. In paragraph (e)(1), removing each instance of “Immigration and Naturalization Service” and adding in its place, “Department of Homeland Security”; and

c. Revising paragraph (g).

The revisions read as follows:

§ 422.107 Evidence requirements.

(a) General. To obtain an original Social Security number card, you must submit convincing evidence of your age, U.S. citizenship or alien status, and true identity, as described in paragraphs (b) through (e) of this section. If you apply for a replacement Social Security number card, you must submit convincing evidence of your true identity, as described in paragraph (c) of this section, and you may also be required to submit convincing evidence of your age and U.S. citizenship or alien status, as described in paragraphs (b), (d), and (e) of this section. If you apply for an original or replacement Social Security number card, you are also required to submit evidence to assist us in determining the existence and identity of any previously assigned Social Security number(s). We will not assign a Social Security number or issue an original or replacement card unless we determine that you meet all of the evidence requirements. We require an in-person interview if you are age 12 or older and are applying for an original Social Security number, unless you are an alien who requests a Social Security number as part of the immigration process described in § 422.103(b)(3). We may require an in-person interview of other applicants. All paper or other tangible documents submitted as evidence must be originals or copies of the original documents certified by the custodians of the original records and are subject to verification. We may also verify your eligibility factors, as described in paragraphs (b)-(e) of this section, through other means, including but not limited to data matches or other agreements with government agencies or other entities that we determine can provide us with appropriate and secure verification of your eligibility factors.

* * * * *

(c) Evidence of identity. (1) If you apply for an original Social Security number or a replacement Social Security number card, you are required to submit convincing evidence of your identity. Evidence of identity may consist of a driver's license, identification card, school record, medical record, marriage record, passport, Department of Homeland Security document, or other similar evidence serving to identify you. The evidence must contain sufficient information to identify you, including your name and:

(i) Your age, date of birth, or parents' names; or

(ii) Your photograph or physical description.

(2) A birth record is not sufficient evidence to establish identity for these purposes.

* * * * *

(g) Inability to verify eligibility factors. We will not issue an original or replacement Social Security number card when you present invalid or expired documents or when we are unable to verify the required evidence through other means, as described in paragraph (a) of this section. Invalid documents are either forged documents that supposedly were issued by the custodian of the record, or properly issued documents that were improperly changed after they were issued. An expired document is one that was valid for only a limited time and that time has passed.

4. Amend § 422.110 by revising paragraph (a) to read as follows:

§ 422.110 Individual's request for change in record.

(a) Application. If you wish to change the name or other personal identifying information you previously submitted in connection with an application for a Social Security number card, you must complete a prescribed application, except as provided in paragraph (b) of this section. You must prove your identity, and you may be required to provide other evidence. (See § 422.107 for evidence requirements.) You may complete a request for change in records in the manner we designate, including at any Social Security office, or, if you are outside the U.S., to the Department of Veterans Affairs Regional Office, Manila, Philippines, or to any U.S. Foreign Service post or U.S. military post. If your request is for a change of name on the card (that is, verified legal changes to the first name or surname, or both), we may issue you a replacement Social Security number card bearing the same number and the new name. We will grant an exception to the limitations specified in § 422.103(e)(2) for replacement Social Security number cards representing a change in name or, if you are an alien, a change to a restrictive legend shown on the card. (See § 422.103(e)(3) for the definition of a change to a restrictive legend.)

* * * * *

[FR Doc. 2015-03726 Filed 2-24-15; 11:15 am]

BILLING CODE 4191-02-P